DEPARTMENT OF ENERGY

Federal Energy Regulatory Commission

[Docket No. CP17-178-000]

Alaska Gasline Development Corporation; Notice of Technical Conference

Take notice that a technical conference will be held on Thursday, October 18, 2018 at 8:30 a.m., in Room 3M-2A and B at the Federal Energy Regulatory Commission, 888 First Street NE, Washington, DC 20426.

The technical conference will provide an opportunity for Commission staff and representatives from Alaska Gasline Development Corporation to discuss clarifications on the Commission staff's October 2, 2018 environmental data request for the Alaska LNG Project. While all interested persons and Commission staff are permitted to attend, no comments or statements during the conference will be permitted. Further, there will be no discussion of Critical Energy Infrastructure Information or privileged material. For further information please contact James Martin at (202) 502-8045 or email james.martin@ferc.gov.

Federal Energy Regulatory Commission conferences are accessible under section 508 of the Rehabilitation Act of 1973. For accessibility accommodations please send an email to accessibility@ferc.gov or call toll free (866) 208-3372 (voice) or (202) 502-8659 (TTY), or send a fax to (202) 208-2106 with the required accommodations.

Dated: October 9, 2018.
Nathaniel J. Davis, Sr.,
Deputy Secretary.

[FR Doc. 2018-22354 Filed 10-12-18; 8:45 am]

BILLING CODE 6717-01-P